DEPARTMENT OF HOMELAND SECURITY

Federal Emergency Management Agency

[Docket ID: FEMA-2007-0008]

National Advisory Council Meeting

AGENCY: Federal Emergency Management Agency, DHS.

ACTION: Notice of Federal Advisory Committee meeting.

SUMMARY: This notice announces the date, time, location, and agenda for the next meeting of the National Advisory Council (NAC). At the meeting, the subcommittees will report on their work since the August 4-5, 2010 meeting. This meeting will be open to the public.

DATES: Meeting Dates: Wednesday, January 26, 2011, from approximately 10 a.m. EST to 5:45 p.m. EST and Thursday, January 27, 2011, 8:30 a.m. EST to 2 p.m. EST. A public comment period will take place on the afternoon of January 27, 2011, between approximately 12:45 p.m. EST and 1:15 p.m. EST.

Comment Date: Persons wishing to make an oral presentation, or who are unable to attend or speak at the meeting, may submit written comments. Written comments or requests to make oral presentations must be received by January 14, 2011.

ADDRESSES: The meeting will be held at the Hilton Garden Inn, 815 14th Street NW., Washington, DC 20005. Written comments and requests to make oral presentations at the meeting should be provided to the address listed in the FOR FURTHER INFORMATION CONTACT section and must be received by January 14, 2011. All submissions received must include the Docket ID FEMA-2007-0008 and may be submitted by any one of the following methods:

Federal Rulemaking Portal: http://www.regulations.gov. Follow the instructions for submitting comments on the Web site.

E-mail: FEMA-RULES@dhs.gov. Include Docket ID FEMA-2007-0008 in the subject line of the message.

Facsimile: (703) 483-2999.

Mail: Office of Chief Counsel, Federal Emergency Management Agency (Room 835), 500 C Street SW., Washington, DC 20472-3100.

Hand Delivery/Courier: Office of Chief Counsel, Federal Emergency Management Agency (Room 835), 500 C Street SW., Washington, DC 20472-3100.

Instructions: All submissions received must include the Docket ID FEMA-2007-0008. Comments received also will be posted without alteration at http://www.regulations.gov, including any personal information provided.

Docket: For access to the docket to read documents or comments received by the National Advisory Council, go to http://www.regulations.gov.

FOR FURTHER INFORMATION CONTACT: The National Advisory Council Office, Federal Emergency Management Agency (Room 832), 500 C Street SW., Washington, DC 20472-3100, telephone (202) 646-3746, fax (202) 646-3930, and email mailto: FEMA-NAC@dhs.gov. The NAC Web site is located at: http://www.fema.gov/about/nac/.

SUPPLEMENTARY INFORMATION: Notice of this meeting is required under the Federal Advisory Committee Act (FACA), Public Law 92-463, as amended (5 U.S.C. App. 1, et seq.). The National Advisory Council (NAC) will meet for the purpose of reviewing the progress and/or potential recommendations of the following NAC subcommittees: Preparedness and Protection, Response and Recovery, Public Engagement and Mission Support, and Federal Insurance and Mitigation. The Council may receive updates on response, recovery, preparedness, and on the Regional Advisory Councils.

Public Attendance: The meeting is open to the public. Please note that the meeting may adjourn early if all business is finished. Persons with disabilities who require special assistance should advise the NAC Office of their anticipated needs as early as possible. Members of the public who wish to make comments on Thursday, January 27, 2011 between 12:45 p.m. EST and 1:15 p.m. EST are requested to register in advance, and if the meeting is running ahead of schedule the public comment period may take place as early as 11 a.m. EST; therefore, all speakers must be present and seated by 10:45 a.m. EST. In order to allow as many people as possible to speak, speakers are requested to limit their remarks to 3 minutes. For those wishing to submit written comments, please follow the procedure noted above. In certain weather circumstances, a teleconference line for members of the public to call in may be set up. Please contact the NAC Office to request the public listen-only call in information using the contact information provided in the FOR FURTHER INFORMATION CONTACT section.

Dated: January 5, 2011.
W. Craig Fugate,
Administrator, Federal Emergency Management Agency.

[FR Doc. 2011-391 Filed 1-10-11; 8:45 am]

BILLING CODE 9111-48-P